DEPARTMENT OF HOMELAND SECURITY

Federal Emergency Management Agency

[FEMA-3185-EM]

Colorado; Amendment No. 1 to Notice of an Emergency Declaration

AGENCY: Federal Emergency Management Agency, Emergency Preparedness and Response Directorate, Department of Homeland Security.

ACTION: Notice.

SUMMARY: This notice amends the notice of an emergency declaration for the State of Colorado, (FEMA-3185-EM), dated April 9, 2003, and related determinations.

EFFECTIVE DATE: April 17, 2003.

FOR FURTHER INFORMATION CONTACT: Magda Ruiz, Recovery Division, Federal Emergency Management Agency, Washington, DC 20472, (202) 646-2705.

SUPPLEMENTARY INFORMATION: The notice of an emergency declaration for the State of Colorado is hereby amended to include the following areas among those areas determined to have been adversely affected by the catastrophe declared an emergency by the President in his declaration of April 9, 2003:

Alamosa, Chaffee, Costilla, Gunnison, Morgan, Pueblo, and Saguache Counties for emergency protective measures (Category B) under the Public Assistance program for a period of 72 hours.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.556, Fire Management Assistance; 83.558, Individual and Household Housing; 83.559, Individual and Household Disaster Housing Operations; 83.560 Individual and Household Program-Other Needs, 83.544, Public Assistance Grants; 83.548, Hazard Mitigation Grant Program.)

Michael D. Brown,
Undersecretary, Emergency Preparedness and Response.

[FR Doc. 03-10231 Filed 4-24-03; 8:45 am]

BILLING CODE 6718-02-P